DEPARTMENT OF THE INTERIOR

National Park Service

[NPS-WASO-NRNHL-17315; PPWOCRADI0, PCU00RP14.R50000]

National Register of Historic Places; Notification of Pending Nominations and Related Actions

Nominations for the following properties being considered for listing or related actions in the National Register were received by the National Park Service before December 6, 2014. Pursuant to section 60.13 of 36 CFR part 60, written comments are being accepted concerning the significance of the nominated properties under the National Register criteria for evaluation. Comments may be forwarded by United States Postal Service, to the National Register of Historic Places, National Park Service, 1849 C St. NW., MS 2280, Washington, DC 20240; by all other carriers, National Register of Historic Places, National Park Service, 1201 Eye St. NW., 8th Floor, Washington, DC 20005; or by fax, 202-371-6447. Written or faxed comments should be submitted by January 20, 2015. Before including your address, phone number, email address, or other personal identifying information in your comment, you should be aware that your entire comment—including your personal identifying information—may be made publicly available at any time. While you can ask us in your comment to withhold your personal identifying information from public review, we cannot guarantee that we will be able to do so.

Dated: December 14, 2014.
Alexandra Lord,
Acting Chief, National Register of Historic Places/ National Historic Landmarks Program.

COLORADO

Las Animas County

Coy, Charles E., Homestead, (Homesteading and Ranching Resources of the Purgatoire River Region, Colorado MPS) Address Restricted, Model, 14001164

Hils, Frank and Doll, Christina, Homestead, (Homesteading and Ranching Resources of the Purgatoire River Region, Colorado MPS) Address Restricted, Delhi Valley, 14001165

DISTRICT OF COLUMBIA

District of Columbia

Real Estate Trust Building—Continental Trust Building, 1343 H St., NW., Washington, 14001166

IOWA

Cerro Gordo County

Forest Park Historic District, Roughly bounded by Willow Cr., Crescent & Linden Drs., State St., S. Pierce & N. Taylor Aves., 1st St. SW., Mason City, 14001167

Des Moines County

Downtown Commercial Historic District, Roughly 100-800 blks. Jefferson, Columbia, & Market Sts., Mississippi R., Burlington, 14001168

Lee County

Fort Madison High School, 1812 Ave. F, Fort Madison, 14001169

LOUISIANA

Orleans Parish

Lower Central Business District (Boundary Increase II), 234, 222 Loyola & 1100 Tulane Aves., 300, 306, 308, 310, 314 Rampart, 1111, 935 Gravier & 1010 Common Sts., New Orleans, 14001170

Rault Center, The, 1111 Gravier St., New Orleans, 14001171

Rapides Parish

First United Methodist Church, 2727 Jackson Ave., Alexandria, 14001172

Sabine Parish

Hodges Gardens, 1000 Hodges Loop, Florien, 14001173

Washington Parish

Hicks, Robert “Bob”, House, 924 E. Robert “Bob” Hicks St., Bogalusa, 14001174

MINNESOTA

Morrison County

Bridge No. 4969, TH 115 & BNSFRR over Mississippi R., Camp Ripley, 14001175

NORTH CAROLINA

Henderson County

Flat Rock Historic District (Boundary Increase and Decrease), Roughly bounded by Rutledge, Dunroy & N. Highland Lake Drs., Kanuga, Little River & W. Blue Ridge Rds., Flat Rock, 14001176

SOUTH DAKOTA

Brule County

Chamberlain Rest Stop Tipi, (Concrete Interstate Tipis of South Dakota MPS) I-90 between exits 263 & 265, Chamberlain, 14001177

Jones County

Murdo State Bank, 205 Main, Murdo, 14001178

Lawrence County

Anderson, Rasmus and Elemine, Homestead Ranch, 11753 Anderson Rd., St. Onge, 14001179

Spearfish Rest Stop Tipi, (Concrete Interstate Tipis of South Dakota MPS) Mi. 1 on I-90, Spearfish, 14001180

McCook County

Salem Rest Stop Tipi—Eastbound, (Concrete Interstate Tipis of South Dakota MPS) Mi. 362.2 on I-90, Salem, 14001181

Salem Rest Stop Tipi—Westbound, (Concrete Interstate Tipis of South Dakota MPS) Mi. 362.7 on I-90, Salem, 14001182

Minnehaha County

Valley Springs Rest Stop Tipi, (Concrete Interstate Tipis of South Dakota MPS) Mi. 412.1 on I-90, Valley Springs, 14001183

Moody County

Drake, Frank and Sarah, Claim House, 23982 466th Ave., Chester, 14001184

Pennington County

Kudrna, Josef and Marie, Homestead and Ranch, 18100 E. SD 44, Scenic, 14001185

Wasta Rest Stop Tipi—Eastbound, (Concrete Interstate Tipis of South Dakota MPS) Mi. 98.6 on I-90, Wasta, 14001186

Wasta Rest Stop Tipi—Westbound, (Concrete Interstate Tipis of South Dakota MPS) Mi. 98.6 on I-90, Wasta, 14001187

Perkins County

Quamman, Ole, House, 400 2nd Ave., Lemmon, 14001188

Roberts County

New Effington Rest Stop Tipi, (Concrete Interstate Tipis of South Dakota MPS) Mi. 250.8 on I-29, New Effington, 14001189

Spink County

Norbeck—Nicholson Carriage House, 910 E. 2nd St., Redfield, 14001190

Union County

Junction City Rest Stop Tipi, (Concrete Interstate Tipis of South Dakota MPS) Mi. 26.6 on I-29, Junction City, 14001191

WISCONSIN

Sauk County

Devil's Lake State Park, S5975 Park Rd., Baraboo, 14001192

[FR Doc. 2014-30884 Filed 1-2-15; 8:45 am]

BILLING CODE 4312-51-P